DEPARTMENT OF COMMERCE

National Oceanic and Atmospheric Administration

RIN 0648-XQ48

Marine Mammals; File No. 14097

AGENCY: National Marine Fisheries Service (NMFS), National Oceanic and Atmospheric Administration (NOAA), Commerce.

ACTION: Notice; receipt of application.

SUMMARY: Notice is hereby given that National Marine Fisheries Service, Southwest Fisheries Science Center (SWFSC) (Jeremy Rusin, Principal Investigator), Protected Resources Division, 3333 N. Torrey Pines Ct., La Jolla, CA 92037, has applied in due form for a permit to conduct scientific research on five pinniped species, 57 cetacean species, and five sea turtle species in the Pacific, Southern, Indian, and Arctic Oceans.

DATES: Written, telefaxed, or e-mail comments must be received on or before August 26, 2009.

ADDRESSES: The application and related documents are available for review by selecting “Records Open for Public Comment” from the Features box on the Applications and Permits for Protected Species (APPS) home page, https://apps.nmfs.noaa.gov, and then selecting File No. 14097 from the list of available applications.

These documents are also available upon written request or by appointment in the following office(s): See SUPPLEMENTARY INFORMATION.

Written comments on this application should be submitted to the Chief, Permits, Conservation and Education Division, at the address listed below. Comments may also be submitted by facsimile to (301)713-0376, or by email to NMFS.Pr1Comments@noaa.gov. Please include File No. 14097 in the subject line of the email comment.

Those individuals requesting a public hearing should submit a written request to the Chief, Permits, Conservation and Education Division at the address listed below. The request should set forth the specific reasons why a hearing on this application would be appropriate.

FOR FURTHER INFORMATION CONTACT: Kristy Beard or Amy Hapeman, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The SWFSC requests a five-year permit to take marine mammals and sea turtles for scientific research purposes in the Pacific, Southern, Indian, and Arctic Oceans. Five species of pinniped, fifty-seven species of cetacean, and five species of sea turtles will be targeted for study. The application consists of three projects. The purposes of Project I (Pinnipeds) are to conduct population assessments for northern elephant seals (Mirounga angustirostris), California sea lions (Zalophus californianus), Steller sea lions (Eumetopias jubatus), and harbor seals (Phoca vitulina) via aerial photography, ground or vessel surveys, and photogrammetry to determine abundance, distribution patterns, length frequencies, and breeding densities. Scats and spewings will be collected from California sea lions to determine their diet. This research is part of an ongoing program to assess the status of pinniped species and identify fishery-marine mammal conflicts. The purpose of Project II (Cetaceans) is to determine the abundance, distribution, movement patterns, and stock structure of cetaceans in U.S. territorial and international waters. These studies will be conducted through vessel surveys, aerial surveys, small plane photogrammetry, photo-identification (from vessels and small boats), biological sampling, radio tagging, and satellite tagging. Cetacean abundance data will be used to set limits of allowable human caused mortality under the MMPA and to monitor trends in abundance through time. The purpose of Project III (Sea Turtles) is to determine the abundance, distribution, movement patterns, stock structure, and diet of sea turtles in U.S. territorial and international waters. Sea turtles will be opportunistically captured during Project II for collection of blood samples, stomach contents, and tissue biopsy and to attach satellite tags. The SWFSC also requests the salvage and import/export of cetacean, pinniped, and sea turtle parts, specimens, and biological samples collected during these projects.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018; and

Pacific Islands Region, NMFS, 1601 Kapiolani Blvd., Rm 1110, Honolulu, HI 96814-4700; phone (808)944-2200; fax (808)973-2941.

Dated: July 21, 2009.
Tammy C. Adams,
Acting Chief, Permits, Conservation and Education Division, Office of Protected Resources, National Marine Fisheries Service.

[FR Doc. E9-17840 Filed 7-24-09; 8:45 am]

BILLING CODE 3510-22-S